DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; revision of a currently approved information collection; OMB No. 1660-0083; FEMA Form 116-0-1, Promissory Note, FEMA Form 085-0-1, Local Government Resolution Collateral Security, FEMA Form 090-0-1, Certification of Eligibility for Community Disaster Loans, and FEMA Form 090-0-2, Application for Community Disaster Loan.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before May 20, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION: The Community Disaster Loan (CDL) Program is authorized by Section 417 of the Robert T. Stafford Disaster Relief and Emergency Assistance Act, Public Law 93-288, as amended, and provides loans to any local government which has suffered a substantial loss of tax or other revenues as a result of a major disaster or emergency and which demonstrates a need for Federal financial assistance in order to perform its governmental functions. FEMA regulations at 44 CFR 206.360-206.367 contain the procedures and requirements that implement the statutory authority for this program.

The title (Formerly titled Application for Community Disaster Loan (CDL) and the Special Community Disaster Loan (SCDL) Program) previously reported in the 60-Day Federal Register Notice (73 FR 76370, Dec. 16, 2008) has been changed because the Special Community Disaster Loan (SCDL) Program was only authorized to provide loans to communities affected by Hurricanes Katrina and/or Rita. The application period for that program closed at the end of fiscal year 2006 (October 1, 2006). Because FEMA is no longer accepting applications for the SCDL Program, it has been removed from this collection.

Collection of Information

Title: Application for Community Disaster Loan (CDL) Program.

Type of information collection: Revision of a currently approved collection.

OMB Number: 1660-0083.

Form Titles and Numbers: FEMA Form 116-0-1, Promissory Note, FEMA Form 085-0-1, Local Government Resolution Collateral Security, FEMA Form 090-0-1, Certification of Eligibility for Community Disaster Loans, and FEMA Form 090-0-2, Application for Community Disaster Loan. These form numbers previously reported in the 60-Day Federal Register Notice (73 FR 76370, Dec. 16, 2008) have been changed in accordance with the Federal Enterprise Architecture (FEA) numbering system. FEMA Form 090-0-2 (Former FEMA Form 90-7), Application for Community Disaster Loan was inadvertently not included in the 60-Day Federal Register Notice mentioned above and has since been added to this collection.

Abstract: The Loan Package for the Community Disaster Loan Program provides States, Local and Tribal governments that have suffered substantial loss of tax or other revenues as a result of a major disaster or emergency, the opportunity to obtain financial assistance in order to perform their governmental functions. Local governments can submit a loan package for the Community Disaster Loan Program. This loan must be justified on the basis of need and actual expenses.

Affected Public: “State, Local, or Tribal Government”.

Estimated Number of Respondents: 50.

Frequency of Response: Once.

Estimated Average Hour Burden per Respondent: 19.5 hours.

Estimated Total Annual Burden Hours: 975. The estimated total annual burden hours previously reported in the 60-day Federal Register Notice (73 FR 76370, Dec. 16, 2008) has been increased.

Estimated Cost: The estimated total annual respondent administrative cost based on wage rate categories is $44,892.32. The estimated total annual respondent administrative cost based on wage rate categories previously reported in the 60-day Federal Register Notice (73 FR 76370, Dec. 16, 2008) has been increased. There are no capital expenditure costs associated with this collection.

Larry Gray,
Director, Records Management Division, Office of Management, Federal Emergency Management Agency, Department of Homeland Security.

[FR Doc. E9-8996 Filed 4-17-09; 8:45 am]

BILLING CODE 9111-23-P